DEPARTMENT OF JUSTICE

Notice of Lodging of Consent Decree Under the Comprehensive Environmental Response, Compensation, and Liability Act

Pursuant to Department of Justice policy, notice is hereby given that on January 31, 2007, a proposed Consent Decree in United States v. USX Corp., et al., Civil Action No. 98 C 6398 (N.D. Ill.), was lodged with the United States District Court for the Northern District of Illinois.

The Consent Decree concerns claims for natural resource damages under the Comprehensive Environmental Response, Compensation, and Liability Act, 42 U.S.C. 9601-9675, relating to the Yeoman Creek Landfill Superfund Site in Waukegan, Illinois. Environmental cleanup work at the site is already being performed under a 1999 Consent Decree with several parties. This proposed Consent Decree would require the following parties to pay an additional $300,000 for natural resource damages and for reimbursement of natural resource damage assessment costs incurred by government agencies: (1) Browning-Ferris Industries, LLC and BFI Waste Systems of North America, Inc.; (2) the City of Waukegan, Illinois; (3) Abbott Laboratories; (4) Waukegan Community School District No. 60; (5) The Goodyear Tire & Rubber Company; and (6) Invitrogen Corporation.

The Department of Justice will receive comments relating to the Consent Decree for a period of thirty (30) days from the date of this publication. Comments should be addressed to the Assistant Attorney General, Environment and Natural Resources Division, P.O. Box 7611, U.S. Department of Justice, Washington, DC 20044-7611, and should refer to United States v. USX Corp. et al., Civil Action No. 98 C 6389 (N.D. Ill.) and D.J. Ref. No. 90-11-2-1315/3.

The Consent Decree may be examined at the offices of the United States Attorney, 219 S. Dearborn Street, 5th Floor, Chicago, Illinois. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.00 (32 pages at 25 cents per page reproduction cost) payable to the U.S. Treasury.

William D. Brighton,
Assistant Chief, Environmental Enforcement Section, Environment and Natural Resources Division.

[FR Doc. 07-684 Filed 2-14-07; 8:45 am]

BILLING CODE 4410-15-M